DEPARTMENT OF COMMERCE

National Oceanic and Atmospheric Administration

RIN 0648-XG113

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Tuesday, April 10, 2018 through Thursday, April 12, 2018. For agenda details, see SUPPLEMENTARY INFORMATION.

ADDRESSES:

Meeting address: The meeting will be held at: The Montauk Yacht Club, 32 Star Island Road, Montauk, NY 11954, telephone: (631) 668-3100.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Tuesday, April 10, 2018

Mackerel, Squid, Butterfish Committee Meeting as a Committee of the Whole Summary of SAW/SARC 64

Atlantic Mackerel and Squid Issues

Approve range of rebuilding alternatives and identify preliminary preferred alternative (Framework Meeting 1); consider mackerel closure impacts on Atlantic herring fishery; approve range of 2019-21 mackerel specifications and identify preliminary preferred alternatives; approve range of 2019-21 river herring/shad cap measures and identify preliminary preferred alternatives; possible emergency action regarding squid trimester 2 closure.

Shortfin Mako Shark

Emergency interim final rule measures and management options for upcoming amendment

Wednesday, April 11, 2018

Status of the Ecosystem Report

Blueline Tilefish Specifications

Develop and approve 2019-21 blueline tilefish specifications.

Law Enforcement Report

Reports will be received from the NOAA Office of Law Enforcement and the U.S. Coast Guard.

Golden Tilefish Specifications

Review SSC, Advisory Panel, Monitoring Committee, and staff recommendations for 2019 specifications.

Golden Tilefish Permit Issue

Discuss permit data and next steps.

Summer Flounder, Scup, Black Sea Bass Mesh Selectivity Study

Thursday, April 12, 2018

Business Session

Committee Reports (Scientific and Statistical Committee); Executive Director's Report (Develop Comments for South-Atlantic For-Hire Electronic Reporting Amendment); Organization Reports; and, Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: March 22, 2018.
Jeffrey N. Lonergan,
Acting Deputy Director, Office of Sustainable Fisheries, National Marine Fisheries Service.

[FR Doc. 2018-06083 Filed 3-26-18; 8:45 am]

BILLING CODE 3510-22-P